DEPARTMENT OF AGRICULTURE

Forest Service

Notice of Lincoln County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Kootenai National Forests' Lincoln County Resource Advisory Committee will meet on October 28, 2003 at 6 p.m. in Libby, Montana for business meetings. The meetings are open to the public.

DATES: October 28, 2003.

ADDRESSES: The meeting will be held at the Forest Supervisor's Office, 1101 US Highway 2 West, Libby.

FOR FURTHER INFORMATION CONTACT: Barbara Edgmon, Committee Coordinator, Kootenai National Forest at (406) 293-6211, or e-mail bedgmon@fs.fed.us.

SUPPLEMENTARY INFORMATION: Agenda topics include discussion on field trips for 2004, revision of the project proposal form and accepting project proposals earlier in the year. If the meeting date or location is changed, notice will be posted in the local newspapers, including the Daily Interlake based in Kalispell, MT.

Dated: October 9, 2003.
Bob Castaneda,
Forest Supervisor.

[FR Doc. 03-26110 Filed 10-15-03; 8:45 am]

BILLING CODE 3410-11-M